DEPARTMENT OF VETERANS AFFAIRS

38 CFR Part 17

RIN 2900-AK89

Civilian Health and Medical Program of the Department of Veterans Affairs (CHAMPVA)

AGENCY: Department of Veterans Affairs.

ACTION: Final rule.

SUMMARY: This document affirms amendments to VA's medical regulations to extend CHAMPVA eligibility to persons age 65 and over who would have otherwise lost their CHAMPVA eligibility due to attainment of entitlement to hospital insurance benefits under Medicare Part A, implement coverage of physical examinations required in connection with school enrollment for beneficiaries through age 17, and reduce the catastrophic cap for CHAMPVA dependents and survivors (per family) from $7,500 to $3,000 for each calendar year. These amendments were made by an interim final rule and were necessary to implement provisions of the Floyd D. Spence National Defense Authorization Act for Fiscal Year 2001 and the Veterans' Survivor Benefits Improvements Act of 2001.

DATES: Effective Date: This document is effective on November 1, 2002.

FOR FURTHER INFORMATION CONTACT: Susan Schmetzer, Chief, Policy & Compliance Division, VA Health Administration Center, P.O. Box 65020, Denver, CO 80206-9020, telephone (303) 331-7552.

SUPPLEMENTARY INFORMATION: An interim final rule amending VA's medical regulations to extend CHAMPVA eligibility to persons age 65 and over who would have otherwise lost their CHAMPVA eligibility due to attainment of entitlement to hospital insurance benefits under Medicare Part A, implement coverage of physical examinations required in connection with school enrollment for beneficiaries through age 17, and reduce the catastrophic cap for CHAMPVA dependents and survivors (per family) from $7,500 to $3,000 for each calendar year was published in the Federal Register on January 30, 2002 (67 FR 4357). A correction to the interim final rule was published in the Federal Register on February 14, 2002 (67 FR 6874).

We provided a 60-day comment period that ended April 1, 2002. No comments have been received. Based on the rationale set forth in the interim final rule, we now affirm as a final rule the changes made by the interim final rule.

Administrative Procedure Act

The changes made by this final rule in large part reflect statutory changes. Moreover, we have found good cause to dispense with the notice-and-comment and delayed effective date provisions of the Administrative Procedure Act (5 U.S.C. 553). Compliance with such provisions would be impracticable, unnecessary, and contrary to the public interest. To avoid significant administrative confusion, it was in the public's interest to provide these benefits within approximately the same period as similar benefits were provided to DoD's TRICARE beneficiaries.

Unfunded Mandates

The Unfunded Mandates Reform Act requires at 2 U.S.C. 1532, that agencies prepare an assessment of anticipated costs and benefits before developing any rule that may result in an expenditure by State, local, or tribal governments, in the aggregate, or by the private sector, of $100 million or more in any given year. This rule would have no consequential effect on State, local, or tribal governments.

Paperwork Reduction Act

This final rule will not impose additional information collection requirements on the public under the Paperwork Reduction Act of 1995 (44 U.S.C. 3501-3511).

Regulatory Flexibility Act

The Secretary hereby certifies that this regulatory amendment will not have a significant economic impact on a substantial number of small entities as they are defined in the Regulatory Flexibility Act (RFA), 5 U.S.C. 601-612. Based on a more recent projection, the number of potential beneficiaries over age 65 has increased from 89,500 as estimated in the interim final rule to approximately 135,209 potential beneficiaries that will use the benefit of coverage secondary to Medicare. The interim final rule estimates of approximately 2,000 beneficiaries impacted by the inclusion of school-required physical examination benefit and approximately 2,500 families benefiting from the reduction of the catastrophic cap remain unchanged. Since these beneficiaries are widely geographically diverse, the health care provided to them would not have a significant impact on any small businesses. Therefore, pursuant to 5 U.S.C. 605(b), this amendment is exempt from the initial and final regulatory flexibility analysis requirements of sections 603 and 604.

Catalog of Federal Domestic Assistance Numbers

There are no Catalog of Federal Domestic Assistance program numbers for the programs affected by this document.

List of Subjects in 38 CFR Part 17

Administrative practice and procedure, Alcohol abuse, Alcoholism, Claims, Day care, Dental health, Drug abuse, Foreign relations, Government contracts, Grant programs-health, Grant programs-veterans, Health care, Health facilities, Health professions, Health records, Homeless, Medical and dental schools, Medical devices, Medical research, Mental health programs, Nursing homes, Philippines, Reporting and recordkeeping requirements, Scholarships and fellowships, Travel and transportation expenses, Veterans.

Approved: September 25, 2002.
Anthony J. Principi,
Secretary of Veterans Affairs.

PART 17—MEDICAL

Accordingly, the interim final rule amending 38 CFR part 17 that was published at 67 FR 4357 on January 30, 2002, and corrected at 67 FR 6874 on February 14, 2002, is adopted as a final rule without change.

[FR Doc. 02-27877 Filed 10-31-02; 8:45 am]

BILLING CODE 8320-01-P